DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR Part 107, Subpart B), notice is hereby given that the Office of Hazardous Materials Safety has received the applications described herein. Each mode of transportation for which a particular exemption is requested is indicated by a number of the “Nature of Application” portion of the table below as follows: 1—Rail freight, 3—Cargo vessel, 4—Cargo aircraft only, 5—Passenger-carrying aircraft.

DATES: Comments must be received on or before January 25, 2002.

ADDRESSES COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW., Washington, DC 20590 or at http://dms.dot.gov.

This notice of receipt of applications for new exemptions is published in accordance with part 107 of the Federal hazardous materials transportation law (49 U.S.C. 5117(b); 49 CFR 1.53(b)).

Issued in Washington, DC, on December 18, 2001.
J. Suzanne Hedgepeth,
Director, Office of Hazardous Materials, Exemptions and Approvals.

New Exemptions
Application No. | Docket No. | Applicant | Regulation(s) affected | Nature of exemption thereof
12865-N | RSPA-01-11013 | BOC Gases, Riverton, NJ | 49 CFR 173.301(j) | To authorize the transportation in commerce of non-DOT specification cylinders for export containing various compressed gases without pressure relief devices. (Modes 1, 3.)
12867-N | RSPA-01-11076 | G.L.I. Citergaz, 964 Civray, FR | 49 CFR 178.245-1(a) | To authorize the manufacture, marking, sale and use of DOT Specification 51 steel portable tanks permanently mounted in an ISO frame for use in transporting Division 2.1 and 2.2 materials. (Modes 1, 2, 3.)
12868-N | RSPA-01-11075 | Anderson Development Company, Adrian, MI | 49 CFR 173.301(j) | To authorize the transportation in commerce of non-DOT specification cylinders for export containing various compressed gases without pressure relief devices. (Modes 1, 3.)
12869-N | RSPA-01-11074 | Praxair, Inc., Danbury, CT | 49 CFR 173.301(j) | To authorize the transportation in commerce of non-DOT specification cylinders for export containing various compressed gases without pressure relief devices. (Modes 1, 3.)
12871-N | RSPA-01-11072 | Southern California Edison, San Clemente, CA | 49 CFR 173.403, 173.427(a), 173.427(b)(c) | To authorize the one-time transportation of a nuclear generating-station reactor pressure vessel package transport system to a burial site. (Modes 1, 2, 3.)
12872-N | RSPA-01-11077 | Southern California Edison, San Clemente, CA | 49 CFR 173.403 | To authorize the one-time transportation in commerce of specially designed equipment containing Class 7 radioactive material. (Mode 2.)
12873-N | RSPA-01-11099 | Balchem Corporation, Slate Hill, NY | 49 CFR 172.302(c), 174.67(i)&(j) | To authorize rail cars to remain attached during unloading of Division 2.1 and 2.3 hazardous materials without the physical presence of an unloader. (Mode 2.)
12874-N | RSPA-01-11103 | Zomeworks Corporation, Albuquerque, NM | 48 CFR 171 to 180 | The authorize the transportation in commerce of machine components that are charged with non-flammable, non-toxic refrigerant gas without packaging or communication requirements. (Modes 1, 2, 3, 4, 5.)
12876-N | RSPA-01-11098 | Asai Glass Fluoropolymers USA, Inc., Bayonne, NJ | 49 CFR 174.67(i)&(j) | To authorize rail cars containing a Division 2.2 material to remain standing while connected without the physical presence of an unloader. (Mode 2.)
12877-N | RSPA-01-11119 | BAE Systems, Pomona, CA | 49 CFR 172.400(a), 172.500(a), 173.211(a), 175.3 | To authorize the transportation in commerce of cesium, Division 4.3, without required labeling and placarding in specially designed packaging to be used on military aircraft. (Modes 1, 4, 5.)
12879-N | RSPA-01-11095 | Millennium Speciality Chemicals, Jacksonville, FL | 49 CFR 172.514 | To authorize the transportation in commerce of portable tanks and IBCs containing combustible liquids without required placards when placed in closed sealed freight containers that are properly placarded. (Modes 1, 3.)
12880-N | RSPA-01-11100 | Northrop Grumman Corporation, Baltimore, MD | 49 CFR 172.101 Col.(9)(b), 173.302, 175.3 | To authorize the transportation in commerce of a specially designed device consisting of a non-DOT specification cylinder containing 25 grams of Division 2.3 material. (Modes 1, 3, 4.)

[FR Doc. 01-31657 Filed 12-21-01; 8:45 am]

BILLING CODE 4910-60-M